SMALL BUSINESS ADMINISTRATION

13 CFR Parts 124 and 125

Tribal Consultation for SBA's Office of Capital Access and Access to All Agency Financial Assistance, Contracting, Business Counseling and Technical Assistance Programs, Identifying Issues and Best Practices

AGENCY: U.S. Small Business Administration.

ACTION: Notice of tribal consultation meeting.

SUMMARY: The U.S. Small Business Administration (SBA) announces that it is holding a tribal consultation meeting in Wayland, Michigan requesting comments and input on all issues or concerns relating to any of SBA's programs. Specifically, SBA seeks comments on how best SBA can provide access for tribally-owned small businesses to SBA's various financial assistance programs under SBA's Office of Capital Access as well as its contracting, business counseling and technical assistance programs. SBA is requesting general comments and input on how these programs are working and is inviting suggestions on potential avenues for making the programs more efficient or reducing any unnecessary regulatory burden associated with the programs.

DATES: The Tribal Consultation meeting date is Wednesday, September 17, 2025, 1:00 p.m. to 4:00 p.m. (EDT), Wayland, Michigan. The Tribal Consultation meeting pre-registration deadline date is September 12, 2025.

ADDRESSES:

1. The Tribal Consultation meeting will be held at Gun Lake Casino Resort, 1123 129th Avenue, Wayland, MI 49348.

2. Send pre-registration requests to attend and/or testify to Diane Cullo, Assistant Administrator of SBA's Office of Native American Affairs, U.S. Small Business Administration, 409 3rd Street SW, Washington, DC 20416; Diane.Cullo@sba.gov; or Facsimile to (202) 481-2177.

3. You may submit written comments to SBA by sending them to Diane Cullo, Assistant Administrator, Office of Native American Affairs, U.S. Small Business Administration, 409 3rd Street SW, Washington, DC 20416; or Diane.Cullo@sba.gov; or Facsimile to (202) 481-2177.

If you wish to submit confidential business information (CBI), please submit the information to Diane Cullo, Assistant Administrator, Office of Native American Affairs, U.S. Small Business Administration, 409 3rd Street SW, Washington, DC 20416 and highlight the information that you consider to be CBI and explain why you believe this information should be held confidential. SBA will review the information and make a final determination of whether the information will be published or not.

FOR FURTHER INFORMATION CONTACT: Diane Cullo, Assistant Administrator, Office of Native American Affairs, at Diane.cullo@sba.gov or (202) 619-0518 or by facsimile to (202) 481-2177.

SUPPLEMENTARY INFORMATION:

I. Background

SBA is seeking input from the Native American community on any concerns relating to the general management and operation of SBA's Capital Access and Government Contracting and Business Development programs. Specifically, SBA is seeking comments and input on access to capital for tribal entities. SBA reduces risk and enables easier access to capital through the 7(a) Loan Program, SBA's primary business loan program, the 504-loan program, and the microloan program. SBA is requesting general comments and input on how SBA's financial assistance programs and services are working and is inviting comments and suggestions on potential avenues for continuing to make all programs and services more effective and efficient while continuing to reduce regulatory burden on customers and participants.

Additionally, SBA is asking for input on best practices on how entity-owned firms market their capabilities to procuring agencies. SBA has found that certain practices may be negatively impacting entity-owned firms' ability to receive awards. For example, contracting officers may consider entity-owned firms to be affiliated with each other when several appear on the same web page or where multiple firms owned by the same entity have the exact same capabilities and contact points. SBA is seeking comments and input from firms who have encountered these or similar issues and how they have been able to successfully market their sophisticated capabilities while still making clear to procuring agencies that they are independent small businesses.

Lastly, within the contracting area, the Nonmanufacturer Rule (NMR) requires that recipients of Federal supply contracts provide the product of a small business manufacturer or processor if the recipient of the set-aside contract is not the actual manufacturer or processor of the product. The NMR generally applies to all business contracts (i.e., small business set-aside, service-disabled veteran-owned small business (SDVOSB), Historically Underutilized Business Zone (HUBZone), women-owned small business (WOSB) or economically disadvantaged women-owned small business (EDWOSB), and 8(a) contracts). SBA has received some input that the NMR unnecessarily increases the price of manufactured items purchased by the Government. SBA has also been told that nonmanufacturers play an integral role in assisting the Government procure manufactured items when original manufacturers do not wish to deal directly with the Government. SBA requests comments on the role of nonmanufacturers, whether there should be any limitations imposed on the rule, whether the entire value of manufactured items should count as an award to small business through one of SBA's small business contracting programs (or only the portion added by the small business nonmanufacturer), and any other suggestions relating to the NMR.

Tribal Consultation Meeting

The purpose of this tribal consultation meeting is to conform to the requirements of Executive Order 13175, Tribal Consultations; to provide interested parties with an opportunity to discuss their views on the issues; and for SBA to obtain the views of SBA's stakeholders on ways to maximize efficiency and reduce the burden on small businesses. SBA considers tribal consultation meetings a valuable component of its deliberations and believes that this tribal consultation meeting will allow for constructive dialogue with the Tribal community, Tribal Leaders, Tribal Elders, elected members of Alaska Native Villages or their appointed representatives, and principals of tribally-owned and ANC-owned firms participating in SBA programs.

The format of this tribal consultation meeting will consist of a panel of SBA representatives who will preside over the session. The oral and written testimony as well as any comments SBA receives will become part of the administrative record for SBA's consideration. Written testimony may be submitted in lieu of oral testimony. SBA will analyze the testimony, both oral and written, along with any written comments received. SBA officials may ask questions of a presenter to clarify or further explain the testimony. The purpose of the tribal consultation is to assist SBA with gathering information to guide SBA's review process and to potentially develop new proposals. SBA is open to receiving comments on any SBA small business program that concerns the Native community but specifically requests comments on those issues set forth above. Presenters are encouraged to provide a written copy of their testimony. SBA will accept written material that the presenter wishes to provide that further supplements his or her testimony. Electronic or digitized copies are encouraged.

The tribal consultation meeting will be held for one day. The meeting will begin at 1:00 a.m. and end at 4:00 p.m. (EDT). SBA will adjourn early if all those scheduled have delivered their testimony.

II. Registration

SBA respectfully requests that any elected or appointed representative of the tribal communities or principal of a tribally-owned, ANC-owned or NHO-owned 8(a) firm that is interested in attending please pre-register in advance and indicate whether you would like to testify at the hearing. Registration requests should be received by SBA by September 12, 2025. Please contact Diane Cullo, Assistant Administrator, Office of Native American Affairs in writing at Diane.Cullo@sba.gov or by facsimile to (202) 481-2950. If you are interested in testifying please include the following information relating to the person testifying: Name, Organization affiliation, Address, Telephone number, Email address and Fax number. SBA will attempt to accommodate all interested parties that wish to present testimony. Based on the number of registrants it may be necessary to impose time limits to ensure that everyone who wishes to testify has the opportunity to do so. SBA will confirm in writing the registration of presenters and attendees.

Authority: 15 U.S.C. 634 and E.O. 13175, 65 FR 67249.

* * * * *

Dated: August 14, 2025.
Diane Cullo,
Assistant Administrator, Office of Native American Affairs.

[FR Doc. 2025-15704 Filed 8-15-25; 8:45 am]

BILLING CODE 8026-09-P